DEPARTMENT OF LABOR

Employment and Training Administration

[TA-W-82,458; TA-W-82,458A]

REC Silicon, Inc.; Including On-Site Leased Workers From Express Employment Professionals; Including Workers Whose Unemployment Insurance (UI) Wages Were Reported Through REC Solar Grade Silicon LLC; Moses Lake, Washington; REC Advanced Silicon Materials, LLC; Including On-Site Leased Workers From Spherion Recruiting and Staffing Silver Bow, Montana; Amended Certification Regarding Eligibility To Apply for Worker Adjustment Assistance

In accordance with Section 223 of the Trade Act of 1974, as amended (“Act”), 19 U.S.C. 2273, the Department of Labor issued a Certification of Eligibility to Apply for Worker Adjustment Assistance on March 22, 2013, applicable to workers of REC Silicon, Inc., including on-site leased workers from Express Employment Professionals, and including workers whose unemployment insurance wages are reported through REC Solar Grade Silicon, LLC, Moses Lake, Washington. The Department's notice of determination was published in the Federal Register on April 9, 2013 (78 FR 21153).

At the request of a company official, the Department reviewed the certification for workers of the subject firm. The company reported that the workers from REC Advanced Silicon Materials, LLC, including on-site leased workers from Spherion Recruiting and Staffing, Silver Bow, Montana (TA-W-82,458A) have been separated or threatened with separation due to the same conditions that led to certification of the workers at the Moses Lake, Washington facility. Specifically, the worker separations at both facilities are attributable to the acquisition from a foreign country by the firm of articles like or directly competitive with the polysilicon produced by the firm.

Accordingly, the Department is amending the certification to include the workers of REC Advanced Silicon Materials, LLC, including on-site leased workers from Spherion Recruiting and Staffing, Silver Bow, Montana (TA-W-82,458A).

The amended notice applicable to TA-W-82,458 is hereby issued as follows:

“All workers of REC Silicon, Inc., including on-site leased workers from Express Employment Professionals, and including workers whose unemployment insurance wages are reported through REC Solar Grade Silicon, LLC, Moses Lake, Washington (TA-W-82,458) and REC Advanced Silicon Materials, LLC, including on-site leased workers from Spherion Recruiting and Staffing, Silver Bow, Montana (TA-W-82,458A) who became totally or partially separated from employment on or after February 12, 2012 through March 22, 2015, and all workers in the group threatened with total or partial separation from employment on the date of certification through March 22, 2015, are eligible to apply for adjustment assistance under Chapter 2 of Title II of the Trade Act of 1974, as amended.”

Signed in Washington, DC, this 24th day of December, 2013.
Michael W. Jaffe
Certifying Officer, Office of Trade Adjustment Assistance.

[FR Doc. 2014-00183 Filed 1-9-14; 8:45 am]

BILLING CODE 4510-FN-P